DEPARTMENT OF HOUSING AND URBAN DEVELOPMENT

[Docket No. FR-5280-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll-free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., MS2603, Washington, DC 20240; (202) 208-5399; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: October 1, 2009.
Mark R. Johnston,
Deputy Assistant Secretary for Special Needs.

TITLE V, FEDERAL SURPLUS PROPERTY PROGRAM FEDERAL REGISTER REPORT FOR 10/09/2009

SUITABLE/AVAILABLE PROPERTIES

BUILDING

ALASKA

18 Fuel Storage Tanks

Point Barrow Long Range

Radar Site

Barrow AK 99723

Landholding Agency: GSA

Property Number: 54200930009

Status: Excess

GSA Number: 9-D-AK-824

Comments: 18,000-65,000 gallons, off-site use only

IDAHO

Bldgs. MFC757, MFC-757A Idaho National Laboratory

Scoville ID 83415

Landholding Agency: GSA

Property Number: 54200930010

Status: Excess

GSA Number: 9-B-ID-576

Comments: Concrete basin and cooling tower foundation, potential contamination, off-site use only

MAINE

Border Patrol Station

Rt 1A

Van Buren ME 46278

Landholding Agency: GSA

Property Number: 54200930015

Status: Excess

GSA Number: 1-X-ME-0689

Comments: Bldg.—approx. 1717 sq. ft., attached trailer—approx. 460 sq. ft.

OREGON

3 Bldgs.

Fremont-Winema

National Forests

Lakeview OR 97630

Landholding Agency: GSA

Property Number: 54200930013

Status: Excess

GSA Number: 9-A-OR-0779-AA

Comments: Various sq. ft., most recent use—storage, off-site use only

VIRGINIA

Tract 07-194

13425 Wilderness Park Dr.

Spotsylvania VA 22553

Landholding Agency: Interior

Property Number: 61200930019

Status: Excess

Comments: Split level home, off-site use only

WEST VIRGINIA

Naval Reserve Center

841 Jackson Ave.

Huntington WV 25704

Landholding Agency: GSA

Property Number: 54200930014

Status: Excess

GSA Number: 4-N-WV-0555

Comments: 31,215 sq. ft., presence of asbestos/lead paint, most recent use—office

LAND

ARIZONA

9.46 acres

Tract No. WC-1-2e

Waddell Canal

Phoenix AZ 85383

Landholding Agency: Interior

Property Number: 61200930013

Status: Excess

Comments: Operating pumping station

COLORADO

0.317 acres

Animas-La Plata Project

Durango CO 81301

Landholding Agency: Interior

Property Number: 61200930014

Status: Excess

Comments: Electrical substation, subject to perpetual easement

UNSUITABLE PROPERTIES

BUILDING

ALABAMA

15 Bldgs.

Dauphin Island

Mobile AL

Landholding Agency: Coast Guard

Property Number: 88200930002

Status: Underutilized

Reasons: Secured Area

CALIFORNIA

Bldg. 004J

Lawrence Livermore Natl Lab

Livermore CA

Landholding Agency: Energy

Property Number: 41200930003

Status: Excess

Reasons: Secured Area

Bldgs. 6110, 6111

Yosemite National Park

Tuolumne CA 95389

Landholding Agency: Interior

Property Number: 61200930017

Status: Unutilized

Reasons: Extensive deterioration

Bldg. 88

Naval Base

San Diego CA

Landholding Agency: Navy

Property Number: 77200930014

Status: Unutilized

Reasons: Secured Area, Extensive deterioration

Bldg. 46

Integrated Support Command

Alameda CA 94501

Landholding Agency: Coast Guard

Property Number: 88200930003

Status: Unutilized

Reasons: Secured Area, Within 2000 ft. of flammable or explosive material

DISTRICT OF COLUMBIA

Bldg. A379

Anacostia Naval Annex

Washington DC 20373

Landholding Agency: Navy

Property Number: 77200930015

Status: Unutilized

Reasons: Extensive deterioration, Floodway, Secured Area

FLORIDA

5 Bldgs.

Everglades National Park

Monroe FL

Landholding Agency: Interior

Property Number: 61200930015

Status: Unutilized

Directions: 1-504, 1-486D, 1-426, 1-427, 1-414

Reasons: Extensive deterioration

GEORGIA

Tract 101-66, 67

MLK Natl Historic Site

Atlanta GA 30312

Landholding Agency: Interior

Property Number: 61200930018

Status: Unutilized

Reasons: Extensive deterioration

HAWAII

Bldg. 1446

Naval Station

Pearl Harbor HI 96860

Landholding Agency: Navy

Property Number: 77200930016

Status: Excess

Reasons: Extensive deterioration

MARYLAND

12 Bldgs.

Naval Support Facility

Indian Head MD 20640

Landholding Agency: Navy

Property Number: 77200930017

Status: Excess

Directions: 893, 1214, 1215, 1216, 1217, 1219, 1223, 1288, 1299, 1670, 1672, 1674

Reasons: Within 2000 ft. of flammable or explosive material, Secured Area

NEW MEXICO

11 Bldgs.

Los Alamas Natl Lab

Los Alamos NM

Landholding Agency: Energy

Property Number: 41200930004

Status: Excess

Directions: 21-0031, 21-0042, 21-0080, 21-0212, 21-0328, 21-0355, 21-0357, 21-0370, 54-0062, 54-0215, 54-0216

Reasons: Extensive deterioration, Secured Area

11 Bldgs.

Los Alamos Natl Lab

Los Alamos NM 87545

Landholding Agency: Energy

Property Number: 41200930005

Status: Excess

Directions: 03-2239, 03-02240, 03-1535, 03-1651, 03-1790, 16-0251, 16-0898, 16-1407, 48-0046, 48-0047, 64-0027

Reasons: Secured Area

NEW YORK

Club 37

Massena NY 13662

Landholding Agency: GSA

Property Number: 54200930011

Status: Surplus

GSA Number: NY0944-AA

Reasons: Extensive deterioration

NORTH CAROLINA

Diamond Shoals Light Station

Cape Hatteras NC

Landholding Agency: GSA

Property Number: 54200930012

Status: Excess

GSA Number: 4-U-NC-751

Reasons: Floodway

PENNSYLVANIA

Bldgs. 47, 531, 1070 Naval Support Activity

Mechanicsburg PA

Landholding Agency: Navy

Property Number: 77200930018

Status: Excess

Reasons: Extensive deterioration

RHODE ISLAND

Bldg. A71CHI Naval Station

Newport RI 02841

Landholding Agency: Navy

Property Number: 77200930019

Status: Excess

Reasons: Extensive deterioration, Floodway Secured Area

VIRGINIA

Tracts 01-126, 01-153

Appomattox Court House National Park

Appomattox VA 24522

Landholding Agency: Interior

Property Number: 61200930016

Status: Excess

Reasons: Extensive deterioration

Tract 03-182, 268

9941 Brock Rd.

Spotsylvania VA 22553

Landholding Agency: Interior

Property Number: 61200930020

Status: Excess

Reasons: Extensive deterioration

Tract 03-233

8621 Old Plank Rd

Fredericksburg VA 22407

Landholding Agency: Interior

Property Number: 61200930021

Status: Excess

Reasons: Extensive deterioration

11 Bldgs.

Naval Air Station

Dam Neck Annex Virginia Beach VA

Landholding Agency: Navy

Property Number: 77200930020

Status: Excess

Directions: 112, 113, 116, 120, 121, 122, 130, 131, 138, 139, 198

Reasons: Extensive deterioration, Secured Area

9 Bldgs.

Naval Air Station

Dam Neck Annex

Virginia Beach VA

Landholding Agency: Navy

Property Number: 77200930021

Status: Excess

Directions: 442, 529, 611, 614, 840, 842, 843, 845, 846

Reasons: Extensive deterioration, Secured Area

8 Bldgs.

Naval Weapon Station

Yorktown VA 23691

Landholding Agency: Navy

Property Number: 77200930022

Status: Excess

Directions: 404, 405, 407, 408, 409, 410, 411, 412

Reasons: Secured Area, Extensive deterioration

10 Bldgs.

Naval Weapon Station

Yorktown VA 23691

Landholding Agency: Navy

Property Number: 77200930023

Status: Excess

Directions: 541, 542, 543, 544, 545, 546, 547, 548, 549, 550

Reasons: Extensive deterioration, Secured Area

Bldg. LP23

Naval Station

Norfolk VA 23511

Landholding Agency: Navy

Property Number: 77200930024

Status: Excess

Reasons: Secured Area

WEST VIRGINIA

Bldg. 88

Naval Information

Operations Command

Sugar Grove WV 26815

Landholding Agency: Navy

Property Number: 77200930025

Status: Excess

Reasons: Secured Area

[FR Doc. E9-24138 Filed 10-8-09; 8:45 am]

BILLING CODE 4210-67-P